Title 3—

The President

Memorandum of June 26, 2008

Certification of Rescission of North Korea's Designation as a State Sponsor of Terrorism

Memorandum for the Secretary of State

By the authority vested in me as President by the Constitution and the laws of the United States of America, including section 301 of title 3, United States Code, and consistent with section 6(j)(4)(B) of the Export Administration Act of 1979, Public Law 96-72, as amended (50 U.S.C. App. 2405(j)), and as continued in effect by Executive Order 13222 of August 17, 2001, 66 FR 44025, I hereby certify, with respect to the rescission of the determination of January 20, 1988, regarding North Korea that:

(i) the Government of North Korea has not provided any support for international terrorism during the preceding 6-month period; and

(ii) the Government of North Korea has provided assurances that it will not support acts of international terrorism in the future.

This certification shall also satisfy the provisions of section 620A(c)(2) of the Foreign Assistance Act of 1961, Public Law 87-195, as amended (22 U.S.C. 2371(c)), and section 40(f)(1)(B) of the Arms Export Control Act, Public Law 90-629, as amended (22 U.S.C. 2780(f)).

You are authorized and directed to report this certification and the attached memorandum justifying the rescission to the Congress and to arrange for the publication of this certification in the Federal Register.

THE WHITE HOUSE,

June 26, 2008.

[FR Doc. 08-1404

Filed 6-30-08; 8:45 am]

Billing code 4710-10-P